DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on proposed revisions and three-year extensions to the Forms:

EIA-1, “Weekly Coal Monitoring Report—General Industries and Blast Furnaces” (Standby);

EIA-3, “Quarterly Coal Consumption and Quality Report—Manufacturing and Transformation/Processing Coal Plants and Commercial and Institutional Coal Users;”

EIA-4, “Weekly Coal Monitoring Report—Coke Plants” (Standby);

EIA-5, “Quarterly Coal Consumption and Quality Report—Coke Plants;”

EIA-6Q (Schedule Q), “Quarterly Coal Report” (Standby);

EIA-7A, “Coal Production Report;”

EIA-8A, “Coal Stocks Report;” and

EIA-20, “Weekly Coal Monitoring Report—Coal Burning Utilities and Independent Power Producers” (Standby).

The Standby forms are designed to be utilized under certain emergency conditions.

DATES: Comments must be filed by September 17, 2010. If you anticipate difficulty in submitting comments within that period, contact the person listed below as soon as possible.

ADDRESSES: Send comments to William Watson or George Warholic. To ensure receipt of the comments by the due date, submission by FAX (202-287-1944) or e-mail (William.Watson@eia.doe.gov or George.Warholic@eia.doe.gov) is recommended. The mailing address is the Coal, Nuclear, and Renewables Division, EI-52, Forrestal Building, U.S. Department of Energy, 1000 Independence Ave., SW., Washington, DC 20585. Alternatively, William Watson may be contacted by telephone at (202) 586-1707 and George Warholic at 202-586-2307.

FOR FURTHER INFORMATION CONTACT: Requests for additional information or copies of any forms and instructions should be directed to George Warholic at the address listed above. Forms and Instructions are also available on the internet at: http://www.eia.doe.gov/cneaf/coal/page/surveys/coal_survey_auth.html.

SUPPLEMENTARY INFORMATION:

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

EIA conducts coal surveys to collect information on coal production, receipts, consumption, quality, stocks, and prices. This information is used to support public policy analyses of the coal industry and is published in various EIA publications, including the Annual Coal Report, the Annual Energy Review, the Monthly Energy Review, and the Quarterly Coal Report. Respondents to the coal surveys include coal producers, coal brokers, coal traders, and coal consumers.

Please refer to the proposed forms and instructions for more information about the purpose, who must report, when to report, where to submit, the elements to be reported, detailed instructions, provisions for confidentiality, and uses (including possible nonstatistical uses) of the information. For instructions on obtaining materials, see the For Further Information Contact section.

II. Current Actions

EIA will be requesting a three-year extension of approval for all its coal surveys with the following survey changes proposed to Forms EIA-3, EIA-5, EIA-7A, and EIA-8A. EIA will not propose any changes to Forms EIA-1, EIA-4, EIA-6Q (Schedule Q), and EIA-20 (all standby forms). The proposed changes to Forms EIA-3, EIA-5, EIA-7A, and EIA-8A are described below:

Form EIA-3 (Quarterly Coal Consumption and Quality Report—Manufacturing and Transformation/Processing Coal Plants and Commercial and Institutional Coal Users)

EIA proposes to make several changes to the Form EIA-3 survey form and instructions. The proposed changes are to obtain additional information about the details of the coal plants and the specific origin and costs of the coal receipts.

EIA proposes to make the data on the survey form publicly available except for the data element “Total Cost of Coal Received During Quarter on a C.I.F. Basis (dollars)” in Section II.

EIA proposes to make additional minor revisions to the EIA-3 instructions and definitions to provide respondents detailed information on the additional data elements.

Form EIA-5 (Quarterly Coal Consumption and Quality Report—Coke Plants)

EIA proposes to make changes to the Form EIA-5 survey form and instructions. The proposed changes are to obtain additional information about the details of the coal plants and the specific origin and costs of the coal receipts.

EIA proposes to make the data on the survey form publicly available except for the data element “Total Cost of Coal Received During Quarter on a C.I.F. Basis (dollars)” in Section II and “Total Revenues from Commercial Sales” of coke and breeze in Section III.

EIA proposes to make additional minor revisions to the EIA-5 instructions and definitions to provide respondents detailed information on the additional data elements.

Form EIA-7A (Coal Production and Preparation Report)

EIA proposes to make changes to the Form EIA-7A survey form and instructions. The proposed changes are to obtain additional information about the coal preparation. EIA also proposes to raise the threshold on the amount of coal mined during the year that is the basis of the requirement for a mine to complete the survey.

EIA proposes to make the data on the survey form publicly available except for the data element “Total Revenue or Value (dollars)” in Section V.

EIA proposes to add to the survey a data item to collect information on the amount of coal stocks held at remote off-site locations.

EIA proposes to make additional minor revisions to the EIA-7A instructions and definitions to provide respondents detailed information on the additional data elements.

Form EIA-8A (Coal Stocks Report)

EIA proposes to make changes to the Form EIA-8A survey form and instructions. The proposed changes are to obtain additional detailed information on the specific origin(s) of the coal stocks. EIA also proposes to collect data on the coal exported by coal brokers including the amount of coal exports; the State of origin of the coal exports; the rank of the coal exports; and the total revenue associated with the coal exports.

EIA proposes to make the data on the survey form publicly available.

EIA proposes to make additional minor revisions to the EIA-8A instructions and definitions to provide respondents detailed information on the additional data elements.

III. Request for Comments

Prospective respondents and other interested parties should comment on the actions discussed in item II. The following guidelines are provided to assist in the preparation of comments. (If the notice covers more than one form, add “Please indicate to which form(s) your comments apply.”)

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average

—Form EIA-1, “Weekly Coal Monitoring Report—General Industries and Blast Furnaces” (Standby); 1.0 hour per response (no change from existing estimate of 1.0 hour)

—Form EIA-3, “Quarterly Coal Consumption and Quality Report—Manufacturing and Transformation/Processing Coal Plants and Commercial and Institutional Coal Users;” 1.25 hours per response, manufacturing plants (change from existing estimate of 0.9 hour)

—Form EIA-4, “Weekly Coal Monitoring Report—Coke Plants” (Standby); 1.0 hour per response (no change from existing estimate of 1.0 hour)

—Form EIA-5, “Quarterly Coal Consumption and Quality Report—Coke Plants;” 1.5 hours per response (change from existing estimate of 1.4 hours)

—Form EIA-6Q (Schedule Q), “Quarterly Coal Report” (Standby); 0.5 hour per response (no change from existing estimate of 0.5 hour)

—Form EIA-7A, “Coal Production and Preparation Report;” 1.8 hours per response (change from existing estimate of 1.6 hours)

—Form EIA-8A, “Coal Stocks Report;” 1.0 hour per response (change from existing estimate of 0.95 hour)

—Form EIA-20, “Weekly Coal Monitoring Report—Coal Burning Utilities and Independent Power Producers;” (Standby) 1.0 hour per response (no change from existing estimate of 1.0 hour)

The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, P.L. 93-275, codified at 15 U.S.C. 772(b).

Issued in Washington, DC, July 12, 2010.
Stephanie Brown,
Director, Statistics and Methods Group, Energy Information Administration.

[FR Doc. 2010-17522 Filed 7-16-10; 8:45 am]

BILLING CODE 6450-01-P